DEPARTMENT OF COMMERCE

[I.D. 071701A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Dr. Nancy Foster Scholarship Program.

Form Number(s): CD-346.

OMB Approval Number: 0648-0432.

Type of Request: Regular submission.

Burden Hours: 3,517.

Number of Respondents: 2,000.

Average Hours Per Response: 4.75 hours for an application, 45 minutes for a letter of recommendation, 90 minutes for an annual report, 5 minutes for a “no concurrent work” statement, 45 minutes for a CD-346, and 1 hour for a biography/photograph submission.

Needs and Uses: The Dr. Nancy Foster Scholarship Program recognizes outstanding scholarship by providing financial support to graduate students pursuing masters and doctoral degrees in the areas of marine biology, oceanography, and maritime archaeology. Applicants must submit information that allows NOAA to make scholarship selections and those applicants selected to receive scholarships must submit additional information that enables NOAA to arrange funding and track their academic progress.

Affected Public: Individuals or households.

Frequency: One-time, annual.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: July 13, 2001.
Madeleine Clayton,
Departmental Paperwork Clearance Officer, Office of the Chief Information Officer.

[FR Doc. 01-18203 Filed 7-19-01; 8:45 am]

BILLING CODE 3510-JT-S